ENVIRONMENTAL PROTECTION AGENCY

40 CFR Part 52

[EPA-R04-OAR-2012-0448; FRL-9707-7]

Approval and Promulgation of Air Quality Implementation Plans: Georgia; Control Techniques Guidelines and Reasonably Available Control Technology

AGENCY: Environmental Protection Agency (EPA).

ACTION: Proposed rule.

SUMMARY: EPA is proposing to approve three final and one draft State Implementation Plan (SIP) revisions submitted by the State of Georgia, through the Georgia Environmental Protection Division (GA EPD), to EPA on November 13, 1992, October 21, 2009, March 19, 2012, and July 19, 2012 (draft SIP revision). With regard only to the July 19, 2012, SIP submission, EPA is also proposing, in the alternative, to conditionally approve that revision which relates to certain control techniques guidelines (CTG) categories. Together, these four revisions establish reasonably available control technology (RACT) requirements for the major sources located in the Atlanta, Georgia 1997 8-hour ozone nonattainment area (hereafter referred to as the “Atlanta Area”) that either emit volatile organic compounds (VOC), nitrogen oxides (NOx), or both. Georgia's SIP revisions include certain VOC source categories for which EPA has issued CTG. EPA has evaluated the proposed revisions to Georgia's SIP, and has made the preliminary determination that they are consistent with statutory and regulatory requirements and EPA guidance.

DATES: Comments must be received on or before August 30, 2012.

ADDRESSES: Submit your comments, identified by Docket ID No. EPA-R04-OAR-2012-0448 by one of the following methods:

1. www.regulations.gov: Follow the on-line instructions for submitting comments.

2. Email: R4-RDS@epa.gov.

3. Fax: (404) 562-9019.

4. Mail: “EPA-R04-OAR-2012-0448” Regulatory Development Section, Air Planning Branch, Air, Pesticides and Toxics Management Division, U.S. Environmental Protection Agency, Region 4, 61 Forsyth Street SW., Atlanta, Georgia 30303-8960.

5. Hand Delivery or Courier: Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding federal holidays.

Instructions: Direct your comments to Docket ID No. “EPA-R04-OAR-2012-0448.” EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Jane Spann, Regulatory Development Section, Air Planning Branch, Air, Pesticides and Toxics Management Division, U.S. Environmental Protection Agency, Region 4, 61 Forsyth Street SW., Atlanta, Georgia 30303-8960. Ms. Spann may be reached by phone at (404) 562-9029, or via electronic mail at spann.jane@epa.gov.

SUPPLEMENTARY INFORMATION:

Table of Contents

I. Background

II. Analysis of the State's Submittals

III. Effect of this Proposed Action

IV. Proposed Action

V. Statutory and Executive Order Reviews

I. Background

On April 30, 2004, EPA designated the Atlanta Area as a marginal nonattainment area with respect to the 1997 8-hour ozone national ambient air quality standards (NAAQS). See 69 FR 23858. The Atlanta Area includes the following 20 counties: Barrow, Bartow, Carroll, Cherokee, Clayton, Cobb, Coweta, DeKalb, Douglas, Fayette, Forsyth, Fulton, Gwinnett, Hall, Henry, Newton, Paulding, Rockdale, Spalding and Walton.¹ For background purposes, portions of the Atlanta Area were designated as a severe nonattainment area for the 1-hour ozone NAAQS. The area was subsequently redesignated to attainment for the 1-hour ozone standard with a maintenance plan. The original Atlanta 1-hour severe ozone nonattainment area consisted of 13 counties including Cherokee, Clayton, Cobb, Coweta, DeKalb, Douglas, Fayette, Forsyth, Fulton, Gwinnett, Henry, Paulding and Rockdale. See 56 FR 56694 (November 6, 1991). As such, major sources in the 13-county 1-hour ozone nonattainment area were defined as those sources that emit 25 tpy or more of VOC or NOX. Therefore, the applicability of some of the rules being approved in today's action is for 25 tpy and above for sources in the 13 county area that was severe for the 1-hour ozone NAAQS and moderate for the 1997 8-hour ozone NAAQS; and 100 tpy and above in the remaining 7 counties that have only been classified as moderate for the 1997 8-hour ozone NAAQS. On March 6, 2008, EPA reclassified the Atlanta Area from a marginal ozone nonattainment area to a moderate ozone nonattainment area. As a result of this designation and subsequent reclassification to moderate, Georgia was required to amend its SIP for the Atlanta Area to satisfy the requirements for a moderate area under section 182 of the Clean Air Act (CAA or Act).

¹ Effective July 20, 2012, EPA designated 15 counties in the Atlanta metropolitan area as a marginal nonattainment area for the 2008 8-hour ozone NAAQS. Today's proposed action regarding RACT is not related to requirements for the 2008 8-hour ozone NAAQS.

A. Statutory Requirements

Section 182(b)(2) of the CAA requires states to adopt RACT rules for all areas designated nonattainment for ozone and classified as moderate or above. The three parts of the section 182(b)(2) RACT requirements are: (1) RACT for sources covered by an existing CTG (i.e., a CTG issued prior to enactment of the 1990 amendments to the CAA); (2) RACT for sources covered by a post-enactment CTG; and (3) all major sources not covered by a CTG (i.e., non-CTG sources). Pursuant to 40 CFR 51.165, a major source for a moderate ozone area is a source that emits 100 tons per year (tpy) or more of VOC or NOX.

A CTG is a guidance document issued by EPA which, as a result of CAA section 182(b)(2), triggers a responsibility for states to submit, as part of their SIPs, RACT rules for stationary sources of VOC that are covered by the CTG. EPA defines RACT as “the lowest emission limit that a particular source is capable of meeting by the application of control technology that is reasonably available considering technological and economic feasibility.” See 44 FR 53761, (September 17, 1979). Each CTG includes a “presumptive norm” or “presumptive RACT” that EPA believes satisfies the definition of RACT.

If a state submits a RACT rule that is consistent with presumptive RACT, the state does not need to submit additional support to demonstrate that the rule meets the CAA's RACT requirement. However, if the state decides to submit an alternative emission limit or level of control for a source or source category for which there is a presumptive RACT, the state must submit independent documentation as to why the rule meets the statutory RACT requirement. As mentioned above, section 182(b)(2) of the CAA addresses moderate and above areas for the 1-hour ozone standard. Further clarification of the RACT requirements for areas classified as moderate or above for the 1997 8-hour ozone NAAQS is provided in EPA's regulations.² See 40 CFR 51.912.

² On July 18, 1997, EPA promulgated a revised 8-hour ozone NAAQS of 0.08 parts per million—also referred to as the 1997 8-hour ozone NAAQS. On April 30, 2004, EPA designated areas as unclassifiable/attainment, nonattainment and unclassifiable for the 1997 8-hour ozone NAAQS. In addition, on April 30, 2004, as part of the framework to implement the 1997 8-hour ozone NAAQS, EPA promulgated an implementation rule in two phases (Phase I and II). The Phase I Rule (effective on June 15, 2004), provided the implementation requirements for designated areas under subpart 1 and subpart 2 of the CAA. See 69 FR 23951. EPA's Phase II Rule, finalized on November 29, 2005, addressed control and planning requirements as they applied to areas designated nonattainment for the 1997 8-hour ozone NAAQS such as RACT, RACM, reasonable further progress, modeling and attainment demonstrations, new source review, and the impact to reformulated gas for the 1997 8-hour ozone NAAQS transition. See 70 FR 71612.

The CTG established by EPA are guidance to the states and only provide recommendations. A state can develop its own strategy for what constitutes RACT for the various CTG categories, and EPA will review that strategy in the context of the SIP process and determine whether it meets the RACT requirements of the CAA and its implementing regulations. If no major sources of VOC or NOX emissions (each pollutant should be considered separately) in a particular source category exist in an applicable nonattainment area, a state may submit a negative declaration for that category.

In addition, section 183(e) of the CAA directs EPA to: (1) List for regulation those categories of products that account for at least 80 percent of the VOC emissions, on a reactivity-adjusted basis, from consumer and commercial products in ozone nonattainment areas; and (2) divide the list of categories to be regulated into four groups. EPA published the initial list, following the 1990 CAA Amendments, in the Federal Register on March 23, 1995 (60 FR 15264), and has revised the list several times. See 71 FR 28320 (May 16, 2006), 70 FR 69759 (November 17, 2005), 64 FR 13422 (March 18, 1999), 63 FR 48792 (September 11, 1998). As authorized by CAA section 183(e)(3)(C), EPA chose to issue CTG in lieu of regulations for each listed product category. See 73 FR 58481 (October 7, 2008) (Group IV CTG); 72 FR 57215 (October 9, 2007) (Group III CTG); and 71 FR 58745 (October 5, 2006) (Group II CTG).

B. Regulatory Schedule for Implementing CTG

CTG categories that were established in 1978 ultimately were required to be adopted by the states by 1990 (see schedule below for details). CAA section 182(b)(2) provides that a CTG issued after 1990 must specify the date by which a state must submit a SIP revision in response to the CTG. States were required to have the pre-1990 CAA CTG categories and post-1990 CAA CTG categories for applicable areas addressed in their SIPs according to the following schedule:

Group | Federal Register published | SIP due
I | Pre-1990 CAA Amendment CTG. As of January 1978 the first 15 CTG categories were established. Ten additional CTG categories were issued in 1978 (1 of those (vegetable oil) was rescinded) | Pre-CAA Amendment CTG. The first 25 CTG categories were due to be adopted by the states by 1980. EPA initially approved most of these rules into the state SIPs. Subsequently, EPA reviewed these state rules to see if they were technically adequate and if they met national standards for national consistency. Based on this review, EPA issued the RACT fix-ups in 1987 (See general preamble (57 FR 13498, April 16, 1992)). In 1988, EPA published a technical document to address technical inadequacies found in these state adopted rules and to address minimum standards of national consistency. States were required to adopt revised rules by 1990. Congress established CTG statutory requirements in the 1990 CAA Amendments. Outstanding CTG requirements were due in 1992 (CAA Section 182(b)(2)(C)).
| Post-1990 CAA Amendment CTG. The group of CTG established in 60 FR 15264, March 23, 1995, were broken into subsets called “Group I, II, III and IV” (some of these CTG are updates of previously established CTG)) | September 15, 2006 (40 CFR 51.912, RACT SIPs due for the 1997 8-hour ozone NAAQS).
II | 71 FR 58745, October 5, 2006 | October 5, 2007.
III | 72 FR 57215, October 9, 2007 | October 9, 2008.
IV | 73 FR 58481, October 7, 2008 | October 7, 2009.

II. Analysis of the State's Submittals

On November 13, 1992, October 21, 2009, and March 19, 2012, GA EPD submitted final SIP revisions to EPA for review and approval into the Georgia SIP. On July 19, 2012, GA EPD submitted a draft SIP revision to EPA for review and approval through parallel process. In the alternative to proposing approval of Georgia's July 19, 2012, draft SIP revision, EPA is proposing to conditionally approve Georgia's July 19, 2012, SIP revisions. These four SIP revisions comprehensively address all of the remaining CTG related requirements for the Atlanta Area ³ and revise Georgia's rules to address the VOC and NOX RACT provisions for major sources.

³ Georgia met some of the Group I CTG requirements through SIP revisions submitted to EPA prior to November 13, 1992.

Georgia's SIP revisions include changes made by the State of Georgia to its Air Quality Rules, found at Chapter 391-3-1, and include revisions to GA EPD's VOC and NOX rules, including its VOC and NOX RACT requirements. Georgia's VOC and NOX rules for the Atlanta Area are being approved, as they are consistent with the CAA, and EPA VOC and NOX RACT guidance including CTG guidance. A brief description of the rule changes that GA EPD submitted and that EPA is approving through this action is provided below.

A. Summary of the November 13, 1992, SIP Submittal

On November 13, 1992, the State of Georgia submitted a SIP revision to clarify compliance options and specify solids equivalent limits for certain CTG source categories in order to meet EPA requirements. This revision was originally submitted to address the 1-hour ozone nonattainment area requirements. EPA is now proposing to approve the revisions included as part of the November 13, 1992, SIP revision. A portion of the November 13, 1992, SIP revision was previously acted on in a Federal Register notice dated March 8, 1995 (60 FR 12688). A portion of the November 13, 1992, SIP revision was withdrawn. Rule 391-3-1-.02(2)(tt) and Rule 391-3-1-.02(2)(yy) were originally submitted in the November 13, 1992, submittal but GA EPD submitted a December 22, 1997, letter and a subsequent February 27, 2012, letter clarifying that GA EPD withdrew Rule 391-3-1-.02(2)(tt) and Rule 391-3-1-.02(2)(yy) from the November 13, 1992, submittal. The following remaining rule changes from the 1992 SIP revision, supplemented by the October 21, 2009, SIP revisions, are being approved in today's rulemaking, and address the Group I CTG related to certain surface coating methods. See section B of this rulemaking for a summary of the October 21, 2009, SIP revisions. Specifically, Georgia's Rule 391-3-1-.02(2)(u) addresses the control of VOC emissions from can coating operations located in the Atlanta Area; Rule 391-3-1-.02(2)(v) addresses the control of VOC emissions from coil coating operations located in the Atlanta Area; Rule 391-3-1-.02(2)(x) addresses the control of VOC emissions from fabric and vinyl coating operations located in the Atlanta Area; and Rule 391-3-1-.02(2)(aa) addresses the control of VOC emissions from wire coating operations located in the Atlanta Area.

Additionally, there were five other rules, intended to address Group I CTG related to additional surface coating methods, flat wood paneling and graphic arts systems, included in the November 13, 1992, SIP revision. Specifically, Georgia's Rule 391-3-1-.02(2)(w) addresses the control of VOC emissions from paper coating operations located in the Atlanta Area; Rule 391-3-1-.02(2)(y) addresses the control of VOC emissions from metal furniture coating operations located in the Atlanta Area; Rule 391-3-1-.02(2)(z) addresses the control of VOC emissions from large appliance surface coating operations located in the Atlanta Area; Rule 391-3-1-.02(2)(jj) addresses the control of VOC emissions from flat wood paneling operations located in the Atlanta Area; and Rule 391-3-1-.02(2)(mm) addresses the control of VOC emissions from graphic arts systems operations located in the Atlanta Area. On March 19, 2012, Georgia updated rules 391-3-1-.02(2)(w), 391-3-1-.02(2)(y), 391-3-1-.02(2)(z), 391-3-1-.02(2)(jj), and 391-3-1-.02(2)(mm). Today, EPA is proposing to take action on the versions of these rules that were submitted in the March 19, 2012, SIP revision. See Section C for a summary of the March 19, 2012, SIP revision.

B. Summary of the October 21, 2009, SIP Submittals

Georgia submitted three SIP revisions dated October 21, 2009.

• “October 21, 2009, Submittal A” consists of the Atlanta Area Attainment Demonstration SIP, the Atlanta Area RACT SIP and the Atlanta Area Reasonable Further Progress SIP. Today's action only addresses the Atlanta Area RACT SIP portion of October 21, 2009, Submittal A. The RACT SIP portion states “A majority of VOC provisions in Georgia Rule 391-3-1-.02(2) apply statewide based on county-specific VOC emission thresholds. The applicability of the VOC provisions that do not apply statewide have been extended to the additional 7 counties that make up the metro Atlanta non-attainment area. In addition, these VOC provisions apply year-round. The applicable NOX rules already applied to the 7 additional counties and no change is being implemented at this time and they apply May 1 through September 31.” The submittal then provides a comprehensive list of regulations that were originally submitted November 13, 1992.

• “October 21, 2009, Submittal B” includes rule revisions that apply to the Atlanta Area, with state effective dates of June 8, 2008. It includes changes to 12 RACT rules including: (1) six VOC CTG RACT rules; (2) two VOC RACT rules; (3) two NOX RACT rules; (4) a rule for VOC emissions from major sources; and (5) a rule for NOX emissions from major sources.

• “October 21, 2009, Submittal C” includes rule revisions that apply to the Atlanta Area, with state effective dates of April 12, 2009. It includes changes to eight RACT rules including: (1) Four VOC CTG RACT rules; (2) two VOC RACT rules; and (3) two NOX RACT rules. This submittal revises seven of the rules contained in the “October 21, 2009, Submittal B” SIP revision.

As mentioned above in section II.A., of this rulemaking, the following rule changes from Georgia's November 1992 SIP revision, as supplemented by the October 21, 2009, SIP revisions, addressed Group I CTG: Rule 391-3-1-.02(2)(u), Rule 391-3-1-.02(2)(v), Rule 391-3-1-.02(2)(w), Rule 391-3-1-.02(2)(x), Rule 391-3-1-.02(2)(y), Rule 391-3-1-.02(2)(z), Rule 391-3-1-.02(2)(aa), Rule 391-3-1-.02(2)(jj) and Rule 391-3-1-.02(2)(mm). The October 21, 2009, Submittal B SIP revision also included Rule 391-3-1-.02(2)(pp), Rule 391-3-1-.02(2)(rr), Rule 391-3-1-.02(2)(ss), Rule 391-3-1-.02(2)(tt), Rule 391-3-1-.02(2)(vv), Rule 391-3-1-.02(2)(yy), Rule 391-3-1-.02(2)(ccc), Rule 391-3-1-.02(2)(ddd), Rule 391-3-1-.02(2)(eee), Rule 391-3-1-.02(2)(hhh), Rule 391-3-1-.02(2)(lll) and Rule 391-3-1-.02(2)(rrr). The state effective date of these rule revisions was June 8, 2008. The October 21, 2009, Submittal C SIP revision subsequently revised Rule 391-3-1-.02(2)(vv), Rule 391-3-1-.02(2)(ccc), Rule 391-3-1-.02(2)(ddd), Rule 391-3-1-.02(2)(eee), Rule 391-3-1-.02(2)(hhh), Rule 391-3-1-.02(2)(lll) and Rule 391-3-1-.02(2)(rrr) with a state effective date of April 12, 2009. In addition, the October 21, 2009, Submittal C SIP revision revised Rule 391-3-1-.02(2)(kkk). On March 19, 2012, Georgia later updated Rule 391-3-1-.02(2)(w), Rule 391-3-1-.02(2)(y) and Rule 391-3-1-.02(2)(z) to incorporate the requirements of CAA Section 182(b)(2)(A) for the Group III CTG. On March 19, 2012, Georgia also updated Rule 391-3-1-.02(2)(jj), Rule 391-3-1-.02(2)(mm) and Rule 391-3-1-.02(2)(ddd) to incorporate the requirements of CAA Section 182(b)(2)(A) for the Group II CTG. Today, EPA is proposing to take action on the version of this rule that was submitted in the March 19, 2012, SIP revision. See section C of this rulemaking for a summary of the March 19, 2012, SIP revision.

C. Summary of the March 19, 2012, SIP Submittal

Georgia's March 19, 2012, SIP revision applies to the 20 county Atlanta Area. EPA is proposing to approve the March 19, 2012, SIP revision in its entirety. The rule additions and amendments included in the March 19, 2012, SIP revision are listed below and grouped by pertinent CTG:

• Rule 391-3-1-.01 “Definitions”

• Rule 391-3-1-.02(2)(a)6 “General Provisions, VOC Emission Standards, Exemptions, Area Designations, Compliance Schedules and Compliance Determinations”

• Group II CTG (71 FR 58745, October 5, 2006)

—Rule 391-3-1-.02(2)(jj) “VOC Emissions from Surface Coating of Flat Wood Paneling”

—Rule 391-3-1-.02(2)(mm) “VOC Emissions from Graphic Arts Systems”

—Rule 391-3-1-.02(2)(ddd) “Volatile Organic Compound Emissions from Offset Lithography and Letterpress”

—Rule 391-3-1-.02(2)(aaaa) “Industrial Cleaning Solvents”

• Group III CTG (72 FR 57215, October 9, 2007)

—Rule 391-3-1-.02(2)(w) “VOC Emissions from Paper Coating”

—Rule 391-3-1-.02(2)(y) “VOC Emissions from Metal Furniture Coating”

—Rule 391-3-1-.02(2)(z) “VOC Emissions from Large Appliance Surface Coating”

• Group IV CTG (73 FR 58481, October 7, 2008)

—Rule 391-3-1-.02(2)(t) “VOC Emissions from Automobile and Light-Duty Truck Manufacturing”

—Rule 391-3-1-.02(2)(ii) “VOC Emissions from Surface Coating of Miscellaneous Metal Parts and Products”

—Rule 391-3-1-.02(2)(vvv) “VOC Emissions from Surface Coating of Miscellaneous Plastic Parts and Products”

—Rule 391-3-1-.02(2)(yyy) “VOC Emissions from the Use of Miscellaneous Industrial Adhesives”

—Rule 391-3-1-.02(2)(zzz) “VOC Emissions from the Fiberglass Boat Manufacturing” including a negative declaration regarding the Pleasure Craft Coating Operations emission standard contained in the Group IV CTG

For each of the above March 19, 2012, SIP revision CTG related rule additions or changes, the SIP revision contains:

• New emission standards and/or work practice standards consistent with those in the new or revised CTG. Where existing emission limits were more stringent than the CTG, GA EPD maintained the existing provisions from the previous CTG. For Pleasure Craft Coating Operations, Georgia submitted a negative declaration, affirming that there are no sources applying coatings to pleasure craft in the Atlanta Area;

• New and revised definitions consistent with those in the CTG;

• A schedule for submitting permit applications, completing construction, and full compliance for any modifications necessary for a facility to comply with the new requirements; and

• Modifications to the applicability requirements clarifying which standards remain in effect until January 1, 2015, which standards become applicable on January 1, 2015, and what requirements are applicable after January 1, 2015.

D. Summary of the July 19, 2012, Draft SIP Submittal

On July 19, 2012, GA EPD submitted a draft SIP revision, for parallel processing, to apply the appropriate thresholds and applicability for certain CTG categories and RACT requirements for the 7 counties that were not a part of the original 1-hour ozone nonattainment area for Atlanta. In order to ensure that EPA can timely ⁴ take final action on today's proposed approval, EPA is proposing alternative actions with regard to the July 19, 2012, draft SIP revision. Because that revision was submitted in draft form, for parallel processing, EPA is today both proposing to approve the revision and alternatively, proposing to conditionally approve the revision based on Georgia's commitment to provide EPA with a revision within one year of final action on the conditional approval. Should EPA timely receive from Georgia the final version of the draft July 19, 2012, SIP revision, EPA will take final action to approve that revision. If, however, Georgia is unable to timely provide EPA with the final SIP revision, EPA will take final action on the conditional approval being proposed today. In either situation, EPA intends to take final action on the RACT SIP revisions provided by Georgia for the Atlanta Area.

⁴ On January 16, 2012, EPA was sued in federal court for failure to take action on certain Georgia SIP revisions, including certain revisions regarding RACT requirements for the Atlanta Area. EPA intends to take action on the pertinent RACT related submittals by September 14, 2012.

Specifically, in the July 19, 2012, draft SIP revision, GA EPD revised Rule 391-3-1-.02(2)(a)(6) addressing the applicability thresholds for Barrow, Bartow, Carroll, Hall, Newton, Spalding and Walton Counties for the following CTG categories and RACT requirements:

• Rule 391-3-1-.02(2)(u) VOC Emissions from Can Coating;

• Rule 391-3-1-.02(2)(v) VOC Emissions from Coil Coating;

• Rule 391-3-1-.02(2)(x) VOC Emissions from Fabric and Vinyl Coating;

• Rule 391-3-1-.02(2)(aa) VOC Emissions from Wire Coating;

• Rule 391-3-1-.02(2)(bb) Petroleum Liquid Storage;

• Rule 391-3-1-.02(2)(cc) Bulk Gasoline Terminals;

• Rule 391-3-1-.02(2)(dd) Cutback Asphalt;

• Rule 391-3-1-.02(2)(ee) Petroleum Refinery;

• Rule 391-3-1-.02(2)(ff) Solvent Metal Cleaning;

• Rule 391-3-1-.02(2)(hh) Petroleum Refinery Equipment Leaks;

• Rule 391-3-1-.02(2)(kk) VOC Emissions from Synthesized Pharmaceutical Manufacturing;

• Rule 391-3-1-.02(2)(ll) VOC Emissions from the Manufacture of Pneumatic Rubber Tires;

• Rule 391-3-1-.02(2)(nn) VOC Emissions from External Floating Roof Tanks;

• Rule 391-3-1-.02(2)(qq) VOC Emissions from Large Petroleum Dry Cleaners;

The July 19, 2012, draft SIP revision, also included a revision to Rule 391-3-1-.02(2)(kkk) VOC Emissions from Aerospace Manufacturing and Rework Facilities which addresses the applicability thresholds for Barrow, Bartow, Carroll, Hall, Newton, Spalding and Walton Counties.

As mentioned above, on July 19, 2012, the State of Georgia, through GA EPD, submitted a request for parallel processing of a draft SIP revision that the State is taking through public comment. GA EPD requested parallel processing so that EPA could begin to take action on its draft SIP revision in advance of the State's submission of the final SIP revision. Consistent with EPA regulations found at 40 CFR Part 51, Appendix V, section 2.3.1, for purposes of expediting review of a SIP submittal, parallel processing allows a state to submit a plan to EPA prior to actual adoption by the state. Generally, the state submits a copy of the proposed regulation or other revisions to EPA before conducting its public hearing. EPA reviews this proposed state action, and prepares a notice of proposed rulemaking. EPA's notice of proposed rulemaking is published in the Federal Register during the same time frame that the state is holding its public process. The state and EPA then provide for concurrent public comment periods on both the state action and federal action.

If the revision that is finally adopted and submitted by the State is changed in aspects other than those identified in the proposed rulemaking on the parallel process submission, EPA will evaluate those changes and if necessary and appropriate, issue another notice of proposed rulemaking. The final rulemaking action by EPA will occur only after the SIP revision has been adopted by the State and submitted formally to EPA for incorporation into the SIP. As stated above, the final rulemaking action by EPA will occur only after the SIP revision has been: (1) Adopted by Georgia, (2) submitted formally to EPA for incorporation into the SIP; and (3) evaluated by EPA, including any changes made by the State after the July 19, 2012, draft SIP revision is submitted to EPA.

As explained earlier, in the alternative, EPA is also proposing conditional approval of Georgia's July 19, 2012, draft SIP revision, in order to ensure that EPA can take timely action to act on Georgia's RACT related revisions for the Atlanta Area. On July 19, 2012, Georgia submitted a commitment letter to provide EPA a SIP revision to address the appropriate thresholds and applicability for certain CTG categories and RACT requirements (listed above) for the 7 counties that are in the Atlanta Area but were not a part of the original 1-hour ozone nonattainment area for Atlanta. Georgia requested conditional approval of the CTG categories and RACT requirements until such time (within a year) that the State could submit a SIP revision to fully address these requirements. The State requested conditional approval in coordination with the July 19, 2012, draft SIP revision that the State has out for public comment, and requested conditional approval in the event that EPA had to take action on the CTG and RACT requirements for Georgia in advance of receipt of a final submission. A copy of Georgia's commitment letter is provided in the docket at EPA-R04-OAR-2012-0448 for today's proposed rulemaking.

E. List of Rules Being Approved Into the SIP

Below summarizes the specifics of each rule being proposed for approval in today's action.

a. Definitions and CTG Related Rules

1. Rule 391-3-1-.01, “Definitions”

Revisions to this rule were state effective June 8, 2008, and submitted to EPA on June 25, 2008, for SIP approval. EPA approved the June 25, 2008, revisions into the SIP on June 11, 2009 (74 FR 27713). Subsequently, this rule was revised on March 7, 2012, to update the definition of Georgia Department of Natural Resources “Procedures for Testing and Monitoring Sources of Air Pollutants,” (PTM) to reference the most recent, October 11, 2011, version of the PTM. It was submitted for SIP approval on March 19, 2012, and EPA is proposing to approve into the SIP the March 19, 2012, version of Rule 391-3-1-.01, “Definitions.”

2. Rule 391-3-1-.02(2)(a)6, “General Provisions, VOC Emission Standards, Exemptions, Area Designations, Compliance Schedules and Compliance Determinations”

VOC emission standards are required for all CTG source category sources in the 20 county Atlanta Area. Revisions to this rule were state effective June 8, 2008, and submitted to EPA on June 25, 2008, for SIP approval. EPA approved the June 25, 2008, revisions into the SIP on June, 11, 2009 (74 FR 27713). Subsequently, on March 7, 2012, Georgia updated the applicability requirements regarding these sources. The March 7, 2012, changes were submitted to EPA on March 19, 2012, for SIP approval. These changes remove the reference to Rules 391-3-1-.02(2)(t), (w), (y), (z), (ii), (jj), and (mm) from the applicability provisions in subparagraphs 391-3-1-.02(2)(a)6(i)(I). Georgia updated its applicability requirements again and submitted a draft SIP revision on July 19, 2012. These changes expanded the applicability to the entire 20 county Atlanta Area for Rules 391-3-1-.02(2)(u), (v), (x), (aa), (bb), (cc), (dd), (ee), (ff), (hh), (kk), (ll), (nn) and (qq).

EPA is proposing to approve into the SIP the March 19, 2012, version of Rule 391-3-1-.02(2)(a)6, “General Provisions, VOC Emission Standards, Exemptions, Area Designations, Compliance Schedules and Compliance Determinations.” EPA is also proposing to approve Georgia's rule changes submitted on July 19, 2012, for parallel processing. In the alternative to proposing approval of Georgia's July 19, 2012, draft SIP revision, EPA is proposing to conditionally approve Georgia's July 19, 2012, SIP revisions.

3. Rule 391-3-1-.02(2)(t) “VOC Emissions From Automobile and Light-Duty Truck Manufacturing”

In May 1977, EPA issued a CTG document (1977 CTG) for controlling VOC emissions from surface coating of automobiles and light-duty trucks. On October 7, 2008 (73 FR 58481), EPA updated the 1977 CTG, as part of Group IV CTG, addressing the control of VOC emissions from automobile and light-duty truck manufacturing. On January 3, 1991, April 3, 1991, and September 30, 1991, GA EPD corrected VOC RACT deficiencies for a number of rules including Rule 391-3-1-.02(2)(t) “VOC Emissions from Automobile and Light-Duty Truck Manufacturing.” EPA approved these 1991 revisions into the SIP on October 13, 1992 (57 FR 46780). Subsequent revisions made to GA EPD's VOC Emissions from Automobile and Light-Duty Truck Manufacturing rule were state effective on December 20, 1994, and submitted to EPA for SIP approval. EPA approved this 1994 rule into the SIP on February 2, 1996. See 61 FR 3817).

Revisions to the rule were then made to address this CTG source category for the entire 20 county Atlanta Area and made state effective on March 7, 2012. GA EPD submitted the March 7, 2012, revisions to EPA on March 19, 2012. EPA has reviewed Georgia's revised rule and preliminarily determined that Georgia's rule is consistent with the Group IV CTG for VOC emissions from automobile and light-duty truck manufacturing. EPA is therefore proposing to approve Georgia's rule, submitted on March 19, 2012, regarding VOC emissions from automobile and light-duty truck manufacturing.

4. Rule 391-3-1-.02(2)(u) “VOC Emissions From Can Coating”

In May 1977, EPA established a CTG addressing the control of VOC emissions from can coating operations. On January 3, 1991, April 3, 1991, and September 30, 1991, GA EPD corrected VOC RACT deficiencies for a number of rules including Rule 391-3-1-.02(2)(u) “VOC Emissions from Can Coating.” EPA approved these 1991 revisions into the SIP on October 13, 1992 (57 FR 46780). On November 13, 1992, GA EPD submitted a SIP revision to address this CTG source category for the 13 county Atlanta 1-hour ozone nonattainment area. Subsequently, through the October 21, 2009, “Submittal A” SIP revision, and the draft July 19, 2012, SIP revision the applicability of these rules was extended to include the 20 county Atlanta Area.⁵ The July 19, 2012, SIP revision revised Rule 391-3-1-.02(2)(a)(6) “General Provisions, VOC Emission Standards, Exemptions, Area Designations, Compliance Schedules and Compliance Determinations” which affected the applicability for Rule 391-3-1-.02(2)(u) “VOC Emissions from Can Coating.”

⁵ Under Section 107(d)(1)(C) of the CAA, each ozone area designated nonattainment for the 1-hour ozone NAAQS prior to the enactment of the 1990 CAA Amendments, such as the Atlanta Area, was designated by operation of law upon the 1990 CAA Amendments. Under Section 181(a) of the CAA, each ozone area designated under section 107(d) was also classified by operation of law as “marginal,” “moderate,” “serious,” “severe,” or “extreme,” depending on the severity of the area's air quality problem. The original Atlanta 1-hour severe ozone nonattainment area, (See 56 FR 56694, November 6, 1991), consisted of the 13 counties of Cherokee, Clayton, Cobb, Coweta, DeKalb, Douglas, Fayette, Forsyth, Fulton, Gwinnett, Henry, Paulding and Rockdale. When the Atlanta Area was designated nonattainment for the 1997 8-hour ozone NAAQS, the Area included the previous 1-hour area counties, and an additional seven counties to make the 20 county Atlanta Area.

The purpose of Georgia's rule is to control VOC emissions from can coating operations located in the Atlanta Area. GA EPD's Rule 391-3-1-.02(2)(u) “VOC Emissions from Can Coating” was changed to clarify compliance options and to specify solids equivalent limits to be used as a compliance option. EPA has reviewed Georgia's rule changes, submitted on November 13, 1992, and in the October 21, 2009, Submittal A SIP revision and has preliminarily determined that these changes are consistent with EPA RACT guidance and EPA's CTG for Can Coatings, and these changes are therefore proposed for approval. EPA is also proposing to approve Georgia's rule changes submitted on July 19, 2012, for parallel processing and in alternative, proposing conditional approval of Georgia's July 19, 2012, draft SIP revision.

5. Rule 391-3-1-.02(2)(v) “VOC Emissions From Coil Coating”

In May 1977, EPA established a CTG addressing the control of VOC emissions from coil coating operations. On January 3, 1991, April 3, 1991, and September 30, 1991, GA EPD corrected VOC RACT deficiencies for a number of rules including Rule 391-3-1-.02(2)(v) “VOC Emissions from Coil Coating.” EPA approved these 1991 revisions into the SIP on October 13, 1992 (57 FR 46780). On November 13, 1992, GA EPD submitted a SIP revision to address this CTG source category for the 13 county Atlanta 1-hour ozone nonattainment area. Subsequently, through the October 21, 2009, Submittal A SIP revision, and the draft July 19, 2012, SIP revision the applicability of these rules was extended to include the current 20 county 1997 8-hour Atlanta ozone nonattainment area. The July 19, 2012, SIP revision revised Rule 391-3-1-.02(2)(a)(6) “General Provisions, VOC Emission Standards, Exemptions, Area Designations, Compliance Schedules and Compliance Determinations” which affected the applicability for Rule 391-3-1-.02(2)(v) “VOC Emissions from Coil Coating.”

The purpose of Georgia's rule is to control VOC emissions from coil coating operations located in the Atlanta Area. It was changed to clarify compliance options and to specify solids equivalent limits to be used as a compliance option. EPA has reviewed Georgia's rule changes, submitted on November 13, 1992, and in the October 21, 2009, Submittal A SIP revision and has preliminarily determined that these changes are consistent with EPA RACT guidance and EPA's CTG for Coil Coatings, and these changes are therefore proposed for approval. EPA is also proposing to approve Georgia's rule changes submitted on July 19, 2012, for parallel processing. In the alternative, EPA is proposing to conditionally approve of Georgia's July 19, 2012, draft SIP revision.

6. Rule 391-3-1-.02(2)(w) “VOC Emissions From Paper Coating”

In May 1977, EPA established a CTG addressing the control of VOC emissions from paper coating operations. On October 9, 2007 (73 FR 57215), EPA updated the 1977 CTG, as part of Group III CTG, addressing the control of VOC emissions from paper, film and foil coating operations. On January 3, 1991, April 3, 1991, and September 30, 1991, GA EPD corrected VOC RACT deficiencies for a number of rules including Rule 391-3-1-.02(2)(w) “VOC Emissions from Paper Coating.” EPA approved these 1991 revisions into the SIP on October 13, 1992 (57 FR 46780). Subsequent changes to this rule became state effective on September 16, 1992, and were submitted to EPA for SIP approval on November 13, 1992. At the time it was submitted it applied to the 13 counties in the 1-hour ozone nonattainment area. Through the October 21, 2009, Submittal A SIP revision, the applicability of these rules was extended to include the current 20 county Atlanta Area. The Georgia rule was changed again on March 7, 2012, to be consistent with EPA Group III CTG established October 9, 2007 (72 FR 57215), and submitted to EPA for SIP approval on March 19, 2012.

The purpose of this rule is to control VOC emissions from paper coating operations located in the Atlanta Area. It was changed to clarify compliance options and to specify solids equivalent limits to be used as a compliance option. Please see pages A-22 through A-25 of the March 19, 2012, submittal for the specific changes made to this rule. The Georgia submittal can be found in the docket at “EPA-R04-OAR-2012-0448” for today's rulemaking. EPA has reviewed Georgia's rule changes, which became state effective on March 7, 2012, and has preliminarily determined that these changes are consistent with EPA RACT guidance and Group III CTG for VOC emissions for Paper, Film and Foil Coatings, and these changes are therefore proposed for approval.

7. Rule 391-3-1-.02(2)(x) “VOC Emissions From Fabric and Vinyl Coating”

In May 1977, EPA established a CTG addressing the control of VOC emissions from fabric and vinyl coating operations. On January 3, 1991, April 3, 1991, and September 30, 1991, GA EPD corrected VOC RACT deficiencies for a number of rules including Rule 391-3-1-.02(2)(x) “VOC Emissions from Fabric and Vinyl Coating.” EPA approved these 1991 revisions into the SIP on October 13, 1992 (57 FR 46780). On November 13, 1992, GA EPD submitted a SIP revision to address this CTG source category for the 13 county Atlanta 1-hour ozone nonattainment area. Subsequently, through the October 21, 2009, Submittal A SIP revision, and the draft July 19, 2012, SIP revision, the applicability of Georgia's rule was extended to include the 20 county Atlanta Area. The July 19, 2012, SIP revision revised Rule 391-3-1-.02(2)(a)(6) “General Provisions, VOC Emission Standards, Exemptions, Area Designations, Compliance Schedules and Compliance Determinations” which affected the applicability for Rule 391-3-1-.02(2)(x) “VOC Emissions from Fabric and Vinyl Coating.”

The purpose of this rule is to control VOC emissions from fabric and vinyl coating operations located in the Atlanta Area. It was changed to clarify compliance options and to specify solids equivalent limits to be used as a compliance option. EPA has reviewed Georgia's rule changes, and has preliminarily determined that these changes, submitted on November 13, 1992, and in the October 21, 2009, Submittal A SIP revision, are consistent with EPA RACT guidance and EPA's CTG for fabric and vinyl coatings, and these changes are therefore proposed for approval. EPA is also proposing to approve Georgia's rule changes submitted on July 19, 2012, for parallel processing and in the alternative, proposing conditional approval of Georgia's July 19, 2012, draft SIP revision.

8. Rule 391-3-1-.02(2)(y) “VOC Emissions From Metal Furniture Coating”

In June 1978, EPA established a CTG addressing the control of VOC emissions from Metal Furniture Coating. On October 9, 2007 (73 FR 57215), EPA updated the 1978 CTG, as part of Group III CTG, addressing control of VOC emissions from metal furniture coating operations.

On January 3, 1991, April 3, 1991, and September 30, 1991, GA EPD corrected VOC RACT deficiencies for a number of rules including Rule 391-3-1-.02(2)(y) “VOC Emissions from Metal Furniture Coating.” EPA approved these 1991 revisions into the SIP on October 13, 1992 (57 FR 46780). Subsequent revisions to this rule became state effective on September 16, 1992, and were submitted to EPA for SIP approval on November 13, 1992. At the time it was submitted it applied to the 13 counties in the Atlanta 1-hour ozone nonattainment area. Through the October 21, 2009, Submittal A SIP revision, the applicability of these rules was extended to include the 20 county Atlanta Area. The Georgia rule was changed again on March 7, 2012, to be consistent with EPA Group III CTG established October 9, 2007, (72 FR 57215) and submitted to EPA for SIP approval on March 19, 2012.

The purpose of this rule is to control VOC emissions from metal furniture coating operations located in the Atlanta Area. It was revised to clarify compliance options and to specify solids equivalent limits to be used as a compliance option. Please see pages A-25 through A-30 of the March 19, 2012, submittal for the specific changes made to this rule. The Georgia submittal can be found in the docket at “EPA-R04-OAR-2012-0448” for today's rulemaking. EPA has reviewed Georgia's rule changes, submitted on March 19, 2012, and has preliminarily determined that these changes are consistent with EPA RACT guidance and Group III CTG VOC emissions for metal furniture coatings, and these changes are therefore proposed for approval.

9. Rule 391-3-1-.02(2)(z) “VOC Emissions From Large Appliance Surface Coating”

In May 1977, EPA established a CTG addressing the control of VOC emissions from large appliance surface coating operations. On October 9, 2007 (73 FR 57215), EPA updated the 1977 CTG, as part of Group III CTG, addressing the control of VOC emissions from large appliance surface coating operations.

On January 3, 1991, April 3, 1991, and September 30, 1991, GA EPD corrected VOC RACT deficiencies for a number of rules including Rule 391-3-1-.02(2)(z) “VOC Emissions from Large Appliance Surface Coating.” EPA approved these 1991 revisions into the SIP on October 13, 1992 (57 FR 46780). Subsequent revisions to this rule became state effective on September 16, 1992, and were submitted to EPA for SIP approval on November 13, 1992. At the time it was submitted it applied to the 13 counties in the Atlanta 1-hour ozone nonattainment area. Subsequently, through the October 21, 2009, Submittal A, SIP revision, the applicability of these rules was extended to include the 20 county Atlanta Area. The Georgia rule was revised again on March 7, 2012, to be consistent with EPA Group III CTG established October 9, 2007, (see 72 FR 57215) and submitted to EPA for SIP approval on March 19, 2012. EPA is now approving into the SIP the rule submitted to EPA on March 19, 2012.

The purpose of this rule is to control VOC emissions from large appliance surface coating operations located in the Atlanta Area. It was changed to clarify compliance options and to specify solids equivalent limits to be used as a compliance option. Please see pages A-30 through A-35 of the March 19, 2012, submittal for the specific changes made to this rule. The Georgia submittal can be found in the docket at “EPA-R04-OAR-2012-0448” for today's rulemaking. EPA has reviewed Georgia's rule changes in the March 19, 2012, submittal and has preliminarily determined that these changes are consistent with EPA RACT guidance and Group III CTG for VOC emissions for large appliance coatings, and these changes are therefore proposed for approval.

10. Rule 391-3-1-.02(2)(aa) “VOC Emissions From Wire Coating”

In May 1977, EPA established a CTG addressing the control of VOC emissions from magnet wire coating operations. On January 3, 1991, April 3, 1991, and September 30, 1991, GA EPD corrected VOC RACT deficiencies for a number of rules including Rule 391-3-1-.02(2)(aa) “VOC Emissions from Wire Coating.” EPA approved these 1991 revisions into the SIP on October 13, 1992 (57 FR 46780). On November 13, 1992, GA EPD submitted a SIP revision to address this CTG source category for the 13 county Atlanta 1-hour ozone nonattainment area. Subsequently, through the October 21, 2009, Submittal A SIP revision, and the draft July 19, 2012, SIP revision, the applicability of these rules was extended to include the 20 county Atlanta Area. The July 19, 2012, SIP revision revised Rule 391-3-1-.02(2)(a)(6) “General Provisions, VOC Emission Standards, Exemptions, Area Designations, Compliance Schedules and Compliance Determinations” which affected the applicability for Rule 391-3-1-.02(2)(aa) “VOC Emissions from Wire Coating.”

The purpose of Georgia's rule is to control VOC emissions from wire coating operations located in the Atlanta Area. It was changed to clarify compliance options and to specify solids equivalent limits to be used as a compliance option. EPA has reviewed Georgia's rule changes, submitted on November 13, 1992, and in the October 21, 2009, Submittal A SIP revision and has preliminarily determined that these changes are consistent with EPA RACT guidance and EPA's CTG for wire coatings, and these changes are therefore proposed for approval. EPA is also proposing to approve Georgia's rule changes submitted on July 19, 2012, for parallel processing. In the alternative, EPA is proposing to conditionally approve of Georgia's July 19, 2012, draft SIP revision.

11. Rule 391-3-1-.02(2)(ii) “VOC Emissions From Surface Coating of Miscellaneous Metal Parts and Products”

In June 1978, EPA issued a CTG document to address the control of VOC emissions from surface coating of Miscellaneous Metal Parts and Products. On October 7, 2008 (73 FR 58481), EPA updated the 1978 CTG, as part of Group IV CTG, addressing the control of VOC emissions from surface coating of miscellaneous metal parts and products.

On January 3, 1991, April 3, 1991, and September 30, 1991, GA EPD corrected VOC RACT deficiencies for a number of rules including Rule 391-3-1-.02(2)(ii) “VOC Emissions from Surface Coating of Miscellaneous Metal Parts and Products.” EPA approved these 1991 revisions into the SIP on October 13, 1992 (57 FR 46780). On October 28, 1999, GA EPD submitted to EPA a revision to Rule 391-3-1-.02(2)(ii) “VOC Emissions from Surface Coating of Miscellaneous Metal Parts and Products” and EPA approved this rule on July 10, 2001 (66 FR 35906). On March 19, 2012, GA EPD submitted another SIP revision revising Rule 391-3-1-.02(2)(ii) “VOC Emissions from Surface Coating of Miscellaneous Metal Parts and Products,” to address this CTG source category for the entire 20 county Atlanta Area.

The purpose of Georgia's rule is to control VOC emissions from surface coating of miscellaneous metal parts and products operations located in the Atlanta Area. It was changed to clarify compliance options and to specify solids equivalent limits to be used as a compliance option. The changes set emissions limits and solids equivalent for various coating scenarios. Please see pages A-35 through A-44 of the March 19, 2012, submittal for the specific changes made to this rule. The Georgia submittal can be found in the docket at “EPA-R04-OAR-2012-0448” for today's rulemaking. EPA has reviewed Georgia's rule changes, submitted on March 19, 2012, and has preliminarily determined that these changes are consistent with EPA RACT guidance and Group IV CTG for VOC emissions for surface coating of miscellaneous metal parts and products, and these changes are therefore proposed for approval.

12. Rule 391-3-1-.02(2)(jj) “VOC Emissions From Surface Coating of Flat Wood Paneling”

In June 1978, EPA issued a CTG document to address the control of VOC emissions from surface coating of flat wood paneling. On October 5, 2006 (71 FR 58745), EPA updated the 1978 CTG, as part of Group II CTG, addressing the control of VOC emissions from surface coating of flat wood paneling operations.

On January 3, 1991, April 3, 1991, and September 30, 1991, GA EPD corrected VOC RACT deficiencies for a number of rules including Rule 391-3-1-.02(2)(jj) “VOC Emissions from Surface Coating of Flat Wood Paneling.” EPA approved these 1991 revisions into the SIP on October 13, 1992 (57 FR 46780). GA EPD revised the rule again on September 16, 1992, and submitted it to EPA for SIP approval on November 13, 1992. At the time it was submitted it applied to the 13 counties in the 1-hour ozone nonattainment area. Subsequently, through the October 21, 2009, Submittal A, SIP revision, the applicability of these rules was extended to include the 20 county Atlanta Area. The Georgia rule was changed again on March 7, 2012, to be consistent with EPA Group II CTG established October 5, 2006 (71 FR 58745), and was submitted to EPA for SIP approval on March 19, 2012.

The purpose of Georgia's rule is to control VOC emissions from surface coating of flat wood paneling operations located in the Atlanta Area. It was changed to more clearly specify compliance options that are already approved in this section. Specifically, subparagraphs (jjj)2.(i),(ii) and (iii) are changed to more clearly define the compliance options. Please see pages A-44 through A-47 of the March 19, 2012, submittal for the specific changes made to this rule. The Georgia submittal can be found in the docket at “EPA-R04-OAR-2012-0448” for today's rulemaking. EPA has reviewed Georgia's rule changes, submitted in the October 21, 2009, Submittal A, and March 19, 2012, SIP revisions and has preliminarily determined that these changes are consistent with EPA RACT guidance and Group II for VOC emissions for surface coating of flat wood paneling, and these revisions are therefore proposed for approval.

13. Rule 391-3-1-.02(2)(mm) “VOC Emissions From Graphic Arts Systems”

In December 1978, EPA published a CTG for graphic arts (rotogravure printing and flexographic printing) that included flexible packaging printing. On October 5, 2006 (71 FR 58745), EPA updated the1978 CTG, as part of Group II CTG, addressing the control of VOC emissions from graphic arts systems consisting of packaging rotogravure, publication rotogravure or flexographic printing operations.

On January 3, 1991, April 3, 1991, and September 30, 1991, GA EPD corrected VOC RACT deficiencies for a number of rules including Rule 391-3-1-.02(2)(mm) “VOC Emissions from Graphic Arts Systems.” EPA approved these 1991 revisions into the SIP on October 13, 1992 (57 FR 46780). GA EPD revised its rule again on September 16, 1992, and submitted the revisions to EPA for SIP approval on November 13, 1992. At the time Georgia's rule was submitted it applied to the 13 counties in the 1-hour ozone nonattainment area. Subsequently, through the October 21, 2009, Submittal A SIP revision, the applicability of these rules was extended to include the 20 county Atlanta Area. The Georgia rule was changed again on March 7, 2012, to be consistent with EPA Group II CTG established October 5, 2006 (71 FR 58745), and submitted to EPA for SIP approval on March 19, 2012. EPA is now proposing to approve into the SIP the rule submitted to EPA on March 19, 2012.

The purpose of Georgia's rule is to control VOC emissions from graphic arts operations located in the Atlanta Area. It was changed to clarify compliance options and to specify solids equivalent limits to be used as a compliance option. The changes also allows for a compliance option to average a 24-hour weighted basis of VOC content, provided the average does not exceed the limits set in this section. Please see pages A-48 through A-52 of the March 19, 2012, submittal for the specific changes made to this rule. The Georgia submittal can be found in the docket at “EPA-R04-OAR-2012-0448” for today's rulemaking. EPA has reviewed Georgia's rule changes, submitted on March 19, 2012, and has preliminarily determined that these changes are consistent with EPA RACT guidance and Group II CTG for VOC emissions for graphic arts, and these changes are therefore proposed for approval.

14. Rule 391-3-1-.02(2)(pp) “Bulk Gasoline Plants”

In 1977, EPA established a CTG addressing the control of VOC emissions from bulk gasoline plants. On January 3, 1991, April 3, 1991, and September 30, 1991, GA EPD corrected VOC RACT deficiencies for a number of rules including Rule 391-3-1-.02(2)(pp) “Bulk Gasoline Plants.” EPA approved these 1991 revisions into the SIP on October 13, 1992 (57 FR 46780). On December 31, 2004, GA EPD revised Rule 391-3-1-.02(2)(pp) “Bulk Gasoline Plants” again. EPA approved these revisions into the SIP on August 26, 2005, (70 FR 50199). GA EPD revised its rule again on June 8, 2008, and submitted the revisions to EPA for SIP approval in the October 21, 2009, Submittal B SIP revision. EPA is now proposing to approve into the SIP the rule submitted to EPA on October 21, 2009.

The purpose of Rule 391-3-1-.02(2)(pp) “Bulk Gasoline Plants” is to comply with section 182 of the CAA, as it relates to the implementation of RACT for bulk gasoline plants. The amendment extends the requirement to all 20 counties in the Atlanta Area, by adding the counties of Barrow, Bartow, Carroll, Hall, Newton, Spalding, and Walton. The compliance date for the seven additional counties is June 1, 2008, to coincide with the applicability of rule 391-3-1-.02(2)(rr) “Gasoline Dispensing Facility,” for these counties. Additionally, language has been added to subparagraphs 1.(i), (ii), and (iii), and a definition for “stationary storage tank” has been added to subparagraph 5.(v), to further clarify that the provisions in this section apply to stationary storage tanks. These changes, submitted on October 21, 2009, are being proposed for approval, as they appear to be consistent with the federal requirements for RACT (Group I CTG) and the CAA.

15. Rule 391-3-1-.02(2)(rr) “Gasoline Dispensing Facility”

In 1975, EPA established a CTG addressing the control of VOC emissions from gasoline dispensing facilities. On January 3, 1991, April 3, 1991, and September 30, 1991, GA EPD corrected VOC RACT deficiencies for a number of rules including Rule 391-3-1-.02(2)(rr) “Gasoline Dispensing Facility.” EPA approved these 1991 revisions into the SIP on October 13, 1992 (57 FR 46780). On December 31, 2004, GA EPD revised Rule 391-3-1-.02(2)(rr) “Gasoline Dispensing Facility” again. EPA approved these revisions into the SIP on August 26, 2005 (70 FR 50199). GA EPD revised its rule again on June 8, 2008, and submitted the revisions to EPA for SIP approval in the October 21, 2009, Submittal B SIP revision. EPA is now proposing to approve into the SIP the rule submitted to EPA on October 21, 2009.

The purpose of Georgia's rule is to comply with section 182 of the CAA, as it relates to the implementation of RACT for gasoline dispensing facilities. Subparagraph (rr)1.-14. of the rule was deleted in its entirety and replaced with a new subparagraph (rr)1.-16. to make the rule more clearly understandable. The installation and operation of Stage I Vapor Recovery control is equivalent to RACT for such plants. The revisions expand the requirements of this subparagraph to include the seven additional counties (Barrow, Bartow, Carroll, Hall, Newton, Spalding, and Walton) that were added to the Atlanta Area, with staggered compliance dates ranging from June 1, 2008, to May 1, 2009, based on gallons per month of gasoline dispensed. Existing facilities in the counties of Catoosa, Richmond and Walker also have staggered compliance dates of May 1, 2006, or May 1, 2007, based on whether they dispense greater than, or less than or equal to, 50,000 gallons of gasoline per month. Any newly constructed or reconstructed facilities would need to be in compliance with the requirements of the subparagraph upon startup of gasoline dispensing operations.

The changes also establish the requirement that applicable gasoline dispensing facilities implement enhanced Stage I vapor recovery systems rather than Stage I vapor recovery systems. The revisions establish compliance dates for the upgrade of existing Stage I vapor control systems to enhanced vapor control systems. The amendment extends the requirement to all 20 counties in the Atlanta Area, by adding the counties of Barrow, Bartow, Carroll, Hall, Newton, Spalding, and Walton. The compliance date for existing facilities in the counties of Cherokee, Clayton, Cobb, Coweta, DeKalb, Fayette, Forsyth, Fulton, Gwinnett, Henry, Paulding, and Rockdale to be in compliance with the requirements of an approved enhanced Stage I gasoline vapor recovery system is May 1, 2012, and for the counties of Catoosa, Richmond and Walker is May 1, 2023. Any newly constructed or reconstructed facilities would need to be in compliance with the enhanced Stage I requirements upon startup of gasoline dispensing operations. EPA has preliminarily determined that all of the changes and compliance dates in this rule revision submitted in the October 21, 2009, Submittal B SIP revision meet the requirements of RACT under the CAA and the Group I CTG for “Design Criteria for Stage I Vapor Control Systems—Gasoline Service Stations,” and are therefore proposed for approval.

16. Rule 391-3-1-.02(2)(ss) “Gasoline Transport Vehicles and Vapor Collection Systems”

In December 1978, EPA established a CTG addressing the control of VOC emissions from gasoline transport vehicles and vapor collection systems. On January 3, 1991, April 3, 1991, and September 30, 1991, GA EPD corrected VOC RACT deficiencies for a number of rules including Rule 391-3-1-.02(2)(ss) “Gasoline Transport Vehicles and Vapor Collection Systems.” EPA approved these 1991 revisions into the SIP on October 13, 1992 (57 FR 46780). On December 31, 2004, GA EPD revised Rule 391-3-1-.02(2)(ss) “Gasoline Transport Vehicles and Vapor Collection Systems” again. EPA approved these revisions into the SIP on August 26, 2005, (70 FR 50199). GA EPD revised its rule again on June 8, 2008, and submitted the revisions to EPA for SIP approval in the October 21, 2009, Submittal B SIP revision. EPA is now proposing to approve into the SIP the rule submitted to EPA on October 21, 2009.

The purpose of this revision is to expand applicability to the seven additional counties (Barrow, Bartow, Carroll, Hall, Newton, Spalding, and Walton) that were added to the Atlanta Area. This will allow the rule requirements to cover gasoline transport vehicles that deliver gasoline to gasoline dispensing facilities in these counties. Additionally, several administrative revisions are made to the rule to clarify and consolidate the rule, including the addition of the term “vapor” to clarify that the control system is a vapor control system, and the addition of the definition of “gasoline.” These changes, submitted in the October 21, 2009, Submittal B SIP revision appear to meet the requirements of RACT under the CAA, and the Group I CTG for “Control of Volatile Organic Compound Leaks from Gasoline Tank Trucks and Vapor Collection Systems,” and are therefore proposed for approval.

17. Rule 391-3-1-.02(2)(ddd) “Volatile Organic Compound Emissions From Offset Lithography and Letterpress”

On October 5, 2006 (71 FR 58745), EPA established an offset lithography and letterpress CTG separate from the graphic arts CTG, as part of Group II CTG, addressing the control of VOC emissions from offset lithography and letterpress operations.

On October 28, 1999, GA EPD submitted to EPA a revision to Rule 391-3-1-.02(2)(ddd) “Volatile Organic Compound Emissions from Offset Lithography and Letterpress” and EPA approved this rule on July 10, 2001 (66 FR 35906). GA EPD revised its rule again on June 8, 2008, and submitted it to EPA for SIP approval in the October 21, 2009, Submittal B SIP revision. The October 21, 2009, Submittal B, SIP revision updated the list of counties to include Barrow County so the Georgia rule applies to the entire 20 county Atlanta Area and the revision established a compliance date of May 1, 2009, for Barrow County. Subsequently, this rule was revised on April 12, 2009, and submitted to EPA for SIP approval in the October 21, 2009, Submittal C SIP revision. The October 21, Submittal C, SIP revision revised the compliance date to March 1, 2009. Subsequently, this rule was revised again on March 7, 2012, to be consistent with EPA Group II CTG established, October 5, 2006 (71 FR 58745), for the Atlanta Area and submitted to EPA for SIP approval on March 19, 2012. EPA is now proposing to approve into the SIP the rule submitted to EPA on March 19, 2012.

18. Rule 391-3-1-.02(2)(eee) “Volatile Organic Compound Emissions From Expanded Polystyrene Products Manufacturing”

In 1983, EPA established a CTG addressing the control of VOC emissions from expanded polystyrene products manufacturing. On October 28, 1999, GA EPD submitted to EPA a revision to Rule 391-3-1-.02(2)(eee) “Volatile Organic Compound Emissions from Expanded Polystyrene Products Manufacturing” and EPA approved this rule on July 10, 2001 (66 FR 35906). GA EPD revised the rule again on June 8, 2008, and submitted it to EPA for SIP approval in the October 21, 2009, Submittal B SIP revision and then again on April 12, 2009, and submitted it to EPA for SIP approval in the October 21, 2009, Submittal C SIP revision.

The purpose of Georgia's rule is to establish applicability and compliance dates associated with emission limitations from Expanded Polystyrene Products Manufacturing VOC emissions in the Atlanta Area. Rule 391-3-1-.02(2)(eee) “Volatile Organic Compound Emissions from Expanded Polystyrene Products Manufacturing” was amended in the October 21, 2009, Submittal B SIP revision to update the list of counties to include Barrow County so that the rule applies to the entire 20 county Atlanta Area and to provide Barrow County with a compliance date of May 1, 2009. This rule was subsequently revised and submitted in the October 21, 2009, Submittal C SIP revision to amend the compliance date for Barrow County to March 1, 2009. These revisions, submitted on October 21, 2009, appear to be consistent with the requirements of RACT under the CAA, and are therefore proposed for approval.

19. Rule 391-3-1-.02(2)(hhh) “Wood Furniture Finishing and Cleaning Operations”

In 1996, EPA established a CTG addressing the control of VOC emissions from wood furniture finishing and cleaning operations. On October 28, 1999, GA EPD submitted to EPA a revision to Rule 391-3-1-.02(2)(hhh) “Wood Furniture Finishing and Cleaning Operations” and EPA approved this rule on July 10, 2001 (66 FR 35906). GA EPD revised the rule on June 8, 2008, and submitted it to EPA for SIP approval in the October 21, 2009, Submittal B SIP revisions and then again on April 12, 2009, and submitted to EPA for SIP approval in the October 21, 2009, Submittal C SIP revision.

The purpose of Georgia's rule is to establish applicability and compliance dates associated with emission limitations from wood furniture finishing and cleaning operation VOC emissions in the Atlanta Area. Rule 391-3-1-.02(2)(hhh) “Wood Furniture Finishing and Cleaning Operations” was amended in the October 21, 2009, Submittal B SIP revision to update the list of counties to include Barrow County so that the rule applies to the entire Atlanta Area and to provide Barrow County with a compliance date of May 1, 2009. This rule was subsequently revised and submitted in the October 21, 2009, Submittal C SIP revision to amend the compliance date for Barrow County to March 1, 2009. These revisions, submitted on October 21, 2009, appear to be consistent with the requirements of RACT under the CAA, and are therefore proposed for approval.

20. Rule 391-3-1-.02(2)(kkk) “VOC Emissions From Aerospace Manufacturing and Rework Facilities”

In December 1997, EPA established a CTG addressing the control of VOC emissions from aerospace manufacturing and rework facilities. On October 28, 1999, GA EPD submitted to EPA a revision to Rule 391-3-1-.02(2)(kkk) “VOC Emissions from Aerospace Manufacturing and Rework Facilities” and EPA approved this rule on July 10, 2001 (66 FR 35906). In the October 21, 2009, Submittal C SIP revision, and the draft July 19, 2012, SIP revision, GA EPD expanded the applicability of Rule 391-3-1-.02(2)(kkk) “VOC Emissions from Aerospace Manufacturing and Rework Facilities” to include all the counties in the Atlanta Area.

The purpose of this rule is to limit VOC emissions from aerospace manufacturing and rework facilities that are located within or contribute to ozone levels in ozone nonattainment areas. The rules also limit VOC emissions from major sources (emitting greater than 100 tons per year of VOC emissions) located outside the ozone nonattainment area. The revisions amend the recordkeeping requirements for solvents to be consistent with Federal requirements found at 40 CFR 63, subpart GG. Also the definition of “cleaning solvent” is revised to include a definition of “no VOCs” (VOC content less than 1.0 weight percent), to make the definition more clear. A typographical error is also corrected. These revisions, submitted on October 21, 2009, appear to be consistent with EPA's CTG under the CAA, and are therefore proposed for approval. EPA is also proposing to approve Georgia's rule changes submitted on July 19, 2012, for parallel processing. In the alternative, EPA is proposing to conditionally approval Georgia's July 19, 2012, draft SIP revision.

21. Rule 391-3-1-.02(2)(vvv) “VOC Emissions From Surface Coating of Miscellaneous Plastic Parts and Products” ⁶

⁶ Also see Rule 391-3-1-.02(2)(www) “VOC Emissions from Surface Coating of Pleasure Craft” for additional information.

In June 1978, EPA issued a CTG document addressing the control of VOC emissions from surface coating of Miscellaneous Metal Parts and Products. On October 7, 2008 (73 FR 58481), EPA updated the 1978 CTG, as part of Group IV CTG, addressing the control of VOC emissions from the surface coating of miscellaneous plastic parts and products. On March 19, 2012, GA EPD submitted a SIP revision addressing this CTG source category for the entire 20-county Atlanta Area. EPA has reviewed Georgia's rule, which became state effective on March 7, 2012, and has preliminarily determined that Georgia's rule is consistent with the Group IV CTG for VOC emission from the surface coating of miscellaneous plastic parts and products. EPA is therefore proposing to approve Georgia's SIP revision submitted on March 19, 2012, regarding VOC emissions from source coating of miscellaneous plastic parts and products.

22. Rule 391-3-1-.02(2)(www) “VOC Emissions From Surface Coating of Pleasure Craft”

On October 7, 2008 (73 FR 58486) EPA published the Miscellaneous Metal and Plastic Part Coatings CTG (MMPPC CTG) as part of the Group IV CTG, addressing the control of VOC emissions from various metal and plastic part coatings. Members of the pleasure craft coatings industry contacted EPA requesting reconsideration of the pleasure craft VOC limits contained in EPA's 2008 MMPPC CTG. In response, EPA issued a memorandum on June 1, 2010, titled “Control Technique Guidelines for Miscellaneous Metal and Plastic Part Coatings—Industry Request for Reconsideration,” recommending that the pleasure craft industry work with State agencies during their RACT rule development process to assess what is reasonable for the specific sources regulated. EPA stated that states can use the recommendations from the MMPPC CTG to inform their own determinations as to what constitutes RACT for pleasure craft coating operations in their particular ozone nonattainment area.

In its March 19, 2012, SIP revision, GA EPD provided a negative declaration for the surface coatings of pleasure craft, noting that there are no such sources located in Georgia. EPA has reviewed this negative declaration and has preliminarily determined that there are no sources the emit VOC emissions from surface coating of pleasure craft in the Atlanta Area. EPA is therefore proposing to approve Georgia's negative declaration for surface coatings of pleasure craft submitted on March 19, 2012.

23. Rule 391-3-1-.02(2)(yyy) “VOC Emissions From the Use of Miscellaneous Industrial Adhesives”

On October 7, 2008 (73 FR 58481), EPA established a CTG, as part of Group IV CTG, addressing the control of VOC emissions from the use of miscellaneous industrial adhesives. On March 19, 2012, GA EPD submitted a SIP revision to address this CTG source category for the entire 20 county Atlanta Area. EPA has reviewed Georgia's rule, which became state effective on March 7, 2012, and has preliminarily determined that Georgia's rule is consistent with the Group IV CTG for VOC emissions from the use of miscellaneous industrial adhesives. EPA is therefore proposing to approve Georgia's SIP revision submitted on March 19, 2012, regarding VOC emissions from the use of miscellaneous industrial adhesives.

24. Rule 391-3-1-.02(2)(zzz) “VOC Emissions From the Fiberglass Boat Manufacturing”

On October 7, 2008 (73 FR 58481), EPA established a CTG, as part of the Group IV CTG, addressing the control of VOC emissions from the fiberglass boat manufacturing industry.

On March 19, 2012, GA EPD submitted a SIP revision to address this CTG source category for the entire 20 county Atlanta Area. EPA has reviewed Georgia's rule, which became state effective on March 7, 2012, and has preliminarily determined that Georgia's rule is consistent with the Group IV CTG for VOC emissions from the fiberglass boat manufacturing. EPA is therefore proposing to approve Georgia's SIP revision submitted on March 19, 2012, regarding VOC emissions from the fiberglass boat manufacturing.

25. Rule 391-3-1-.02(2)(aaaa) ” Industrial Cleaning Solvents”

On October 5, 2006 (71 FR 58745), as part of the Group II CTG, EPA updated the portion of the 1977 Solvent Metal Cleaning CTG regarding the control of VOC emissions from the use of industrial cleaning solvents.

On March 19, 2012, GA EPD submitted a SIP revision to address this CTG source category for the entire 20 county Atlanta Area. EPA has reviewed Georgia's rule, which became state effective on March 7, 2012, and preliminarily determined that Georgia's rule is consistent with the Group IV CTG for industrial cleaning solvents. EPA is therefore proposing to approve Georgia's SIP revision submitted on March 19, 2012, regarding industrial cleaning solvents.

b. General RACT Rules

Moderate and above ozone nonattainment areas are required to have regulations in place that require major VOC sources and NOx sources to meet RACT requirements. In 1993 the Atlanta 1-hour ozone nonattainment area was required to meet VOC major source RACT and NOx major source RACT for the thirteen counties in the Atlanta 1-hour ozone nonattainment area. The Atlanta Area was designated as a marginal nonattainment for the 1997 8-hour ozone standard on June 15, 2004, and was reclassified to moderate on March 6, 2008. The Area was then required to meet major source VOC RACT and major source NOX RACT for entire 20-county 1997 8-hour nonattainment area. The following are RACT rules for the 20-county Atlanta Area.

1. Rule 391-3-1-.02(2)(tt) “Volatile Organic Compound (VOC) Emissions From Major Sources”

On November 13, 1992, GA EPD submitted to EPA a SIP revision that included Rule 391-3-1-.02(2)(tt) “Volatile Organic Compound (VOC) Emissions From Major Sources.” Through a December 22, 1997, letter and a subsequent February 27, 2012, letter GA EPD withdrew Rule 391-3-1-.02(2)(tt) (and Rule 391-3-1-.02(2)(yy)) from the November 13, 1992, submittal. On October 28, 1999, GA EPD submitted to EPA a revision to Rule 391-3-1-.02(2)(tt) “Volatile Organic Compound (VOC) Emissions From Major Sources” and EPA approved this rule on July 10, 2001 (66 FR 35906). GA EPD revised its rule again on June 8, 2008, and submitted it to EPA for SIP approval in the October 21, 2009, Submittal B SIP revision.

The purpose of Georgia's October 21, 2009, revision is to establish applicability and compliance dates associated with emission limitations from major VOC sources in the Atlanta Area. Specifically, this rule is amended to update the list of counties to include Barrow County so that the rule applies to the entire Atlanta Area. Barrow County has a compliance date of May 1, 2009.

2. Rule 391-3-1-.02(2)(vv) “Volatile Organic Liquid Handling and Storage”

On October 28, 1999, GA EPD submitted to EPA a revision to Rule 391-3-1-.02(2)(vv) “Volatile Organic Liquid Handling and Storage” and EPA approved this rule on July 10, 2001 (66 FR 35906). GA EPD revised its rule on June 8, 2008, and submitted it to EPA for SIP approval in the October 21, 2009, Submittal B SIP revision. The rule was again revised on April 12, 2009, and submitted to EPA for SIP approval in the October 21, 2009, Submittal C SIP revision.

The purpose of this revision is to establish applicability and compliance dates associated with emission limitations from VOC handling and storage sources in the Atlanta Area. Specifically, the October 21, 2009, Submittal B SIP revision amended the list of counties to include Barrow County so that the rule applies to the entire Atlanta Area and to provide Barrow County with a compliance date of May 1, 2009. This rule was subsequently revised and submitted in the October 21, 2009, Submittal C SIP revision to amend the compliance date for Barrow County to March 1, 2009. EPA has reviewed Georgia's rule changes, submitted on October 21, 2009, and has preliminarily determined that these changes are consistent with EPA RACT guidance, and are therefore proposed for approval.

3. Rule 391-3-1-.02(2)(yy) “Emissions of Nitrogen Oxides (NOX) Major Sources”

On November 13, 1992, GA EPD submitted to EPA a SIP revision that included Rule 391-3-1-.02(2)(yy) “Emissions of Nitrogen Oxides (NOX) Major Sources.” Through a December 22, 1997, letter and a subsequent February 27, 2012, letter, GA EPD withdrew Rule 391-3-1-.02(2)(yy) (and Rule 391-3-1-.02(2)(tt)) from the November 13, 1992, submittal. On March 15, 2005, GA EPD submitted to EPA a revision to Rule 391-3-1-.02(2)(yy) “Emissions of Nitrogen Oxides (NOX) Major Sources” and EPA approved this revision on May 9, 2005 (70 FR 24310). GA EPD revised its rule again on June 8, 2008, and submitted it to EPA for SIP approval in the October 21, 2009, Submittal B, SIP revision.

The purpose of this rule is to establish applicability and compliance dates associated with emission limitations from NOX major sources in the Atlanta Area. This rule is amended to update the list of counties to include Barrow County so that the rule applies to the entire Atlanta Area. Barrow County has a compliance date of May 1, 2009. These changes, submitted on October 21, 2009, appear to be consistent with the requirements of RACT under the CAA, and the changes are therefore proposed for approval.

4. Rule 391-3-1-.02(2)(ccc) “Volatile Organic Compound Emissions From Bulk Mixing Tanks”

On October 28, 1999, GA EPD submitted to EPA a revision to Rule 391-3-1-.02(2)(ccc) “Volatile Organic Compound Emissions From Bulk Mixing Tanks” and EPA approved this rule on July 10, 2001 (66 FR 35906). GA EPD revised its rule on June 8, 2008, and submitted it to EPA for SIP approval in the October 21, 2009, Submittal B SIP revision and then again on April 12, 2009, and submitted to EPA for SIP approval in the October 21, 2009, Submittal C SIP revision.

The purpose of this rule is to establish applicability and compliance dates associated with emission limitations from VOC bulk mixing tanks in the Atlanta Area. This rule was amended in the October 21, 2009, Submittal B SIP revision to update the list of counties to include Barrow County so that the rule applies to the entire Atlanta Area and provides a compliance Date of May 1, 2009, for Barrow County. This rule was subsequently revised and submitted in the October 21, 2009, Submittal C SIP revision to amend the compliance date for Barrow County to March 1, 2009. These revisions appear to be consistent with the requirements of RACT under the CAA, and are therefore proposed for approval.

5. Rule 391-3-1-.02(2)(lll) “Nitrogen Oxide Emissions From Fuel-Burning Equipment”

On October 28, 1999, GA EPD submitted to EPA a revision to Rule 391-3-1-.02(2)(lll) “Nitrogen Oxide Emissions from Fuel-Burning Equipment” and EPA approved this rule on July 10, 2001 (66 FR 35906). GA EPD revised the rule on June 8, 2008, and submitted to EPA for SIP approval in the October 21, 2009, Submittal B SIP revision and then again on April 12, 2009, and submitted to EPA for SIP approval in the October 21, 2009, Submittal C SIP revision. October 21, 2009, Submittal B SIP revision exempts wood burning boilers located in counties outside the Atlanta Area. The October 21, 2009, Submittal C SIP revision changes the definition of a wood burning boiler from 50 percent wood fired to 90 percent wood fired. The rule is amended to no longer subject fuel-burning equipment burning wood or wood residue in specific amounts outside of the Atlanta Area to the existing NOX emission standard. No sources currently exist in these ozone unclassifiable/attainment areas outside the Atlanta Area and any new major source (greater than 100 tpy) would be required to meet Prevention of Significant Deterioration (PSD) requirements. PSD requirements require Best Available Control Technology (BACT) which would meet RACT and the source would have to show that its emissions do not interfere with the Atlanta Area air quality. Any new minor source (less than 100 tpy) would have to go through the state permitting process.

6. Rule 391-3-1-.02(2)(rrr) “Nitrogen Oxide Emissions From Small Fuel-Burning Equipment”

On October 21, 2009, GA EPD submitted two SIP revisions affecting the applicability and compliance for NOX emissions from small fuel-burning equipment for the entire 20-county Atlanta Area. The October 21, 2009, Submittal B SIP revision revised Rule 391-3-1-.02(2)(rrr) to expand the rule to the entire 20-county Atlanta Area. The rule applied to sources with greater than 25 tpy of NOX emissions in Cherokee, Clayton, Cobb, Coweta, DeKalb, Douglas, Fayette, Forsyth, Fulton, Gwinnett, Henry, Paulding, and Rockdale County and is now revised to include sources with greater than 100 tpy of NOX emissions in Barrow, Bartow, Carroll, Hall, Newton, Spalding and Walton County. The changes to Georgia's rule also established a May 15, 2005, compliance date for Cherokee, Clayton, Cobb, Coweta, DeKalb, Douglas, Fayette, Forsyth, Fulton, Gwinnett, Henry, Paulding, and Rockdale County and a May 1, 2009, compliance date for Barrow, Bartow, Carroll, Hall, Newton, Spalding and Walton County. The October 21, 2009, Submittal C SIP revision revised the compliance date for Barrow, Bartow, Carroll, Hall, Newton, Spalding and Walton County to March 1, 2009. EPA has reviewed Georgia's rule, which became state effective on June 8, 2008, (October 21, 2009, Submittal B, SIP revision) and April 12, 2009, (October 21, 2009, Submittal C, SIP revision) and has preliminarily determined that Georgia's rule is consistent with the requirements of RACT under the CAA. EPA is therefore proposing to approve Georgia's rule, submitted in the October 21, 2009, Submittal B and Submittal C SIP revisions regarding NOX emissions from small fuel-burning engines.

III. Effect of This Proposed Action

The effect of this proposed action is to include the aforementioned requirements for RACT and CTG source categories into the Atlanta Area portion of the Georgia SIP. In accordance with the Georgia rules, some affected sources in the Atlanta Area will have to comply with rules in the March 19, 2012, and July 19, 2012, SIP revisions by January 1, 2015, unless the Atlanta Area is redesignated to attainment prior to January 1, 2015. According to the Georgia rules, if the Atlanta Area is redesignated to attainment prior to January 1, 2015, Georgia provides that the new and revised requirements of these rules will not become applicable and instead will be approved into the contingency measures portion of the Georgia SIP. ⁷ However, in order for that to occur, the redesignation process for the Altanta Area would have to be completed prior to January 1, 2015. Today, EPA is proposing to approve the rules included in the March 19, 2012, and July 19, 2012, SIP revisions (along with other rules, as explained earlier), and simultaneously proposing conditional approval for the July 19, 2012, SIP revision. Any action regarding the movement of rules into the contingency measures portion of the SIP would be effectuated through a separate process (i.e., the redesignation process) and not final action on today's proposal.

⁷ See the applicability portions of Georgia Rules 391-3-1-.02(t), (w), (y), (z), (ii), (jj), (mm), (ddd), (vvv), (yyy), (zzz) and (aaaa) of the March 19, 2012, SIP submittal; See Georgia Rule 391-3-1-.02(a)(6)(i)(V) and Georgia Rule 391-3-1-.02(kkk)(18) of the July 19, 2012, draft SIP submittal.

IV. Proposed Action

Pursuant to section 110 of the CAA, EPA is proposing to approve the revisions to Georgia's SIP addressing sources subject to NOx RACT and VOC RACT, including Groups I, II, III and IV CTG source categories for the Atlanta Area. EPA has evaluated Georgia's November 13, 1992, October 21, 2009, and March 19, 2012, final SIP revisions and July 19, 2012, draft SIP revisions, and preliminarily determined that they meet the applicable requirements of the CAA and EPA regulations, and EPA has made the preliminary determination that the rules included in the SIP revisions are consistent with the CAA, its implementing regulations and EPA policy on addressing RACT requirements. Although EPA has received a draft SIP revisions from Georgia, dated July 19, 2012, for parallel processing, in the event, that EPA does not receive the final version of that SIP revision within the time frames in which EPA must finalize today's proposal, EPA is also today proposing to conditionally approve Georgia's July 19, 2012, draft SIP revision. The alternative conditional approval option will ensure that EPA can timely finalize its approval of the RACT requirements for the Atlanta Area.

V. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely proposes to approve state law as meeting federal requirements and does not impose additional requirements beyond those imposed by state law. For that reason, this proposal action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the determination does not have substantial direct effects on an Indian Tribe. There are no Indian Tribes located within the Atlanta nonattainment area.

List of Subjects in 40 CFR Part 52

Environmental protection, Air pollution control, Incorporation by reference, Intergovernmental relations, Nitrogen dioxide, Ozone, Reporting and recordkeeping requirements, Volatile organic compounds.

Dated: July 20, 2012.
A. Stanley Meiburg,
Acting Regional Administrator, Region 4.

[FR Doc. 2012-18649 Filed 7-30-12; 8:45 am]

BILLING CODE 6560-50-P